FEDERAL COMMUNICATIONS COMMISSION

47 CFR Part 73

[DA 04-3877; MB Docket No. 04-436; RM-11112]

Radio Broadcasting Services; Cannelton and Tell City, Indiana

AGENCY: Federal Communications Commission.

ACTION: Proposed rule.

SUMMARY: This document requests comments on a Petition for Rule Making filed by Hancock Communications, Inc. “(Petitioner”), licensee of Station WLME(FM), Channel 275C3, Cannelton, Indiana, and Station WTCJ-FM, Channel 289A, Tell City, Indiana. Petitioner requests that Channel 275C3 be reallotted from Cannelton to Tell City and that Station WLME(FM)'s license be modified accordingly. Petitioner also requests that Channel 289A be reallotted from Tell City to Cannelton, Indiana, and that Station WTCJ-FM's license be modified accordingly. The coordinates for proposed Channel 289A at Cannelton are 37-48-13 NL and 86-48-57 WL, with a site restriction of 13.5 kilometers (8.4 miles) southwest of Cannelton. The coordinates for proposed Channel 275C3 at Tell City are 37-50-52 NL and 86-36-18 WL, with a site restriction of 18.4 kilometers (11.4 miles) southeast of Tell City.

Since Petitioner's reallotment proposals comply with the provisions of section 1.420(i) of the Commission's rules, the Commission will not accept competing expressions of interest in the use of Channel 289A at Cannelton, Indiana, or the use of Channel 275C3 at Tell City, Indiana, or require the Petitioner to demonstrate the availability of additional equivalent class channels in those communities.

DATES: Comments must be filed on or before February 10, 2005, and reply comments on or before February 25, 2005.

ADDRESSES: Secretary, Federal Communications Commission, 445 12th Street, SW., Room TW-A325, Washington, DC 20554. In addition to filing comments with the FCC, interested parties should serve the petitioner's counsel, as follows: John F. Garziglia, Esq. and Howard J. Barr, Esq., Womble Carlyle Sandridge & Rice, PLLC; 1401 Eye Street, NW., Seventh Floor; Washington, DC 20005.

FOR FURTHER INFORMATION CONTACT: R. Barthen Gorman, Media Bureau, (202) 418-2180.

SUPPLEMENTARY INFORMATION: This is a synopsis of the Commission's Notice of Proposed Rule Making, MB Docket No. 04-436, adopted December 15, 2004, and released December 20, 2004. The full text of this Commission decision is available for inspection and copying during regular business hours in the FCC's Reference Information Center at Portals II, 445 12th Street, SW., CY-A257, Washington, DC 20554. This document may also be purchased from the Commission's duplicating contractors, Best Copy and Printing, Inc., Portals II, 445 12th Street, SW., Room CY-B402, Washington, DC 20554, telephone 1-800-378-3160 or http://www.BCPIWEB.com.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, and 336.

§ 73.202 [Amended]

2. Section 73.202(b), the Table of FM Allotments under Indiana, is amended by removing Channel 275C3 and adding Channel 289A at Cannelton and by removing Channel 289A and adding Channel 275C3 at Tell City.

Federal Communications Commission.
John A. Karousos,
Assistant Chief, Audio Division, Media Bureau.

[FR Doc. 05-117 Filed 1-4-05; 8:45 am]

BILLING CODE 6712-01-P